DEPARTMENT OF LABOR

Bureau of Labor Statistics

Submission for OMB Emergency Review: Comment Request

January 20, 2010.

The Department of Labor has submitted the following (see below) information collection request (ICR), utilizing emergency review procedures, to the Office of Management and Budget (OMB) for review and clearance in accordance with the Paperwork Reduction Act of 1995 (PRA95) (Pub. L. 104-13, 44 U.S.C. Chapter 35) and 5 CFR 1320.13. OMB approval has been requested by March 31, 2010. A copy of this ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov. Interested parties are encouraged to send comments to the Office of Information and Regulatory Affairs, Attn: OMB Desk Officer for the Department of Labor—ETA, Office of Management and Budget, Room 10235, Washington, DC 20503, Telephone: 202-395-7316/Fax: 202-395-6974 (these are not toll-free numbers), E-mail: OIRA_submission@omb.eop.gov. Comments and questions about the ICR listed below should be received on or before February 24, 2010.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: Bureau of Labor Statistics.

Type of Review: New collection.

Title of Collection: Quarterly Census of Employment and Wages Green Goods and Services Sector Pre-testing.

OMB Control Number: 1220-NEW.

Affected Public: Private sector businesses or other for-profits; not-for-profit institutions; farms; small businesses or organizations.

Form | Total respondents | Frequency | Total responses | Average time per response (minutes) | Estimated total burden (hours)
Forms panel testing | 2,500 | One time | 2,500 | 30 | 1,250
Follow-up interviews | 750 | One time | 750 | 30 | 375
Totals | 2,500 |  | 3,250 |  | 1,625
The difference between the total number of respondents and the total number of responses reflects the fact that the respondents contacted for the follow-up interviews are a subset of the respondents contacted during the forms panel testing. About 750 of the respondents will be contacted twice, once during the panel testing and a second time for the follow-up interview.

Total Burden Cost: (capital/startup): $0.

Total Burden Cost: (operating/maintenance): $0.

Description: As the chief source of government data on employment, the 2010 Congressional appropriation tasks the Bureau of Labor Statistics (BLS) Quarterly Census of Employment and Wages (QCEW) program with producing employment data on industry sectors that produce green goods and services. This initiative will produce regular tabulations of aggregate employment and wages for businesses whose primary activities fall in the green goods and services sector as defined by BLS. These series will be key to analyzing workforce trends in this sector.

The purpose of this request for clearance is for the QCEW program to initiate a research project to understand the collection environment and learn what information establishments have available that would help BLS collect employment data on industry sectors that produce green goods and services. This information will be used to improve the eventual data collection instrument, increase response rates, and ensure high quality data are collected.

The primary purpose of this research is neither to finalize a definition of green goods and services sector nor to determine what defines the green sector. Rather, the focus is on learning what collectable information firms have available about their products, services, and other items that might be used to collect data on this sector. The BLS definition of the green goods and services sector industry will be addressed separately.

Why are we requesting Emergency Processing? Emergency clearance is being sought for the Quarterly Census of Employment and Wages Green Goods and Services Sector Industry Pre-testing. The purpose of this request for clearance by the BLS QCEW program is to initiate a research project to understand the collection environment and learn what information establishments have available that would help BLS collect employment data on industry sectors that produce green goods and services. This information will be used to develop the eventual data collection instrument and ensure high quality data are collected. Data collection is scheduled to begin in November 2010. In order for BLS to understand how to collect and produce high quality green goods and services business employment by this date, BLS must begin the forms panel testing as soon as possible. Therefore, BLS is requesting an emergency clearance to allow for the necessary research to be undertaken and completed within this timeframe. A second opportunity to comment on the proposed collection of data on green goods and services sector business employment will be afforded when the package is submitted to OMB under the standard clearance process in accordance with the PRA95 (44 U.S.C. 3506).

Darrin A. King,
Departmental Clearance Officer.

[FR Doc. 2010-1301 Filed 1-22-10; 8:45 am]

BILLING CODE 4510-24-P